DEPARTMENT OF ENERGY

Federal Energy Regulatory Commission

[Project Nos. 1940-027 and 1966-053]

Wisconsin Public Service Corporation; Notices of Intent To File License Applications, Filing of Pre-Application Documents (PAD), Commencement of Pre-Filing Processes and Scoping, Request for Comments on the PADS and Scoping Document, and Identification of Issues and Associated Study Requests

a. Type of Filing: Notices of Intent to File License Applications for Two New Licenses and Commencing the Pre-filing Process.

b. Project Nos.: 1940-027 and 1966-053.

c. Date Filed: September 28, 2012.

d. Submitted By: Wisconsin Public Service Corporation.

e. Name of Projects: Tomahawk Hydroelectric Project and Grandfather Falls Hydroelectric Project.

f. Location: On the Wisconsin River in Lincoln County, Wisconsin. The Tomahawk Hydroelectric Project occupies 4.6 acres of United States lands under the jurisdiction of the U.S. Bureau of Land Management. The Grandfather Falls Hydroelectric Project occupies 3.5 acres of United States lands under the jurisdiction of the U.S. Bureau of Land Management.

g. Filed Pursuant to: 18 CFR Part 5 of the Commission's Regulations.

h. Potential Applicant Contact: Terry P. Jensky, Vice President, Energy Supply Operations, Wisconsin Public Service Corporation, P.O. Box 19001, 700 North Adams Street, Green Bay, Wisconsin 54307-9001.

i. FERC Contact: Lee Emery at (202) 502-8379 or email at lee.emery@ferc.gov.

j. Cooperating agencies: Federal, state, local, and tribal agencies with jurisdiction and/or special expertise with respect to environmental issues that wish to cooperate in the preparation of the environmental document should follow the instructions for filing such requests described in item o below. Cooperating agencies should note the Commission's policy that agencies that cooperate in the preparation of the environmental document cannot also intervene. See 94 FERC ¶ 61,076 (2001).

k. With this notice, we are initiating informal consultation with: (a) The U.S. Fish and Wildlife Service and/or NOAA Fisheries under section 7 of the Endangered Species Act and the joint agency regulations thereunder at 50 CFR, Part 402; and (b) the State Historic Preservation Officer, as required by section 106, National Historical Preservation Act, and the implementing regulations of the Advisory Council on Historic Preservation at 36 CFR 800.2.

l. With this notice, we are designating Wisconsin Public Service Corporation as the Commission's non-federal representative for carrying out informal consultation, pursuant to section 7 of the Endangered Species Act and section 106 of the National Historic Preservation Act.

m. Wisconsin Public Service Corporation filed with the Commission two Pre-Application Documents (PADs) and a proposed process plan and schedule for each project, pursuant to 18 CFR 5.6 of the Commission's regulations.

n. Copies of the PADs are available for review at the Commission in the Public Reference Room or may be viewed on the Commission's Web site (http://www.ferc.gov), using the “eLibrary” link. Enter the docket number for each project, excluding the last three digits in the docket number field, to access the documents. For assistance, contact FERC Online Support at FERCOnlineSupport@ferc.gov or toll free at 1-866-208-3676, or for TTY, (202) 502-8659. A copy of each PAD is also available for inspection and reproduction at the address in paragraph h.

Register online at http://www.ferc.gov/docs-filing/esubscription.asp to be notified via email of new filings and issuances related to these or other pending projects. For assistance, contact FERC Online Support.

o. With this notice, we are soliciting comments on the PADs and the Commission staff's Scoping Document 1 (SD1) for the projects, as well as for study requests for each project. All comments on the PADs and SD1, and study requests for each project should be sent to the address above in paragraph h. In addition, all comments on the PADs and SD1, study requests, requests for cooperating agency status, and all communications to and from Commission staff related to the merits of the potential applications must be filed with the Commission. Documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street NE., Washington, DC 20426.

All filings with the Commission must include on the first page the project names (Tomahawk Hydroelectric Project and/or Grandfather Falls Hydroelectric Project) and project numbers (P-1940-027 and/or P-1966-053), and bear the appropriate heading: “Comments on Pre-Application Document,” “Study Requests,” “Comments on Scoping Document 1,” “Request for Cooperating Agency Status,” or “Communications to and from Commission Staff.” Any individual or entity interested in submitting study requests or commenting on the PADs or SD1, and any agency requesting cooperating status must do so by January 12, 2013.

p. Although our current intent is to prepare a single environmental assessment (EA), there is the possibility that an Environmental Impact Statement (EIS) will be required. Nevertheless, the scoping meeting noted below will satisfy the NEPA scoping requirements, irrespective of whether an EA or EIS is issued by the Commission.

Scoping Meetings

Commission staff will hold two scoping meetings to discuss both projects at the time and place noted below. The daytime meeting will focus on resource agency, Indian tribes, and non-governmental organization concerns, while the evening meeting is primarily for receiving input from the public. We invite all interested individuals, organizations, and agencies to attend one or both of the meetings, and to assist staff in identifying particular study needs, as well as the scope of environmental issues to be addressed in the environmental document. The times and locations of these meetings are as follows:

Daytime Scoping Meeting

Date: Thursday, December 13, 2012.

Time: 1:00 p.m. (CST).

Location: Tomahawk City Hall, 23 North 2nd Street, Tomahawk, Wisconsin 54487, Phone: (920) 433-5713.

Evening Scoping Meeting

Date: Thursday, December 13, 2012.

Time: 7:00 p.m. (CST).

Location: Tomahawk City Hall, 23 North 2nd Street, Tomahawk, Wisconsin 54487, Phone: (920) 433-5713.

SD1, which outlines the subject areas to be addressed in the environmental document, was mailed to the individuals and entities on the Commission's mailing list for each project. Copies of SD1 will be available at the scoping meetings, or may be viewed on the Web at http://www.ferc.gov, using the “eLibrary” link. Follow the directions for accessing information in paragraph n. Based on all oral and written comments, a Scoping Document 2 (SD2) may be issued. SD2 may include a revised process plan and schedule, as well as a list of issues, identified through the scoping process.

Meeting Objectives

At the scoping meetings, staff will: (1) Initiate scoping of the issues; (2) review and discuss existing conditions and resource management objectives; (3) review and discuss existing information and identify preliminary information and study needs; (4) review and discuss the process plan and schedule for pre-filing activity that incorporates the time frames provided for in Part 5 of the Commission's regulations and, to the extent possible, maximizes coordination of federal, state, and tribal permitting and certification processes; and (5) discuss the appropriateness of any federal or state agency or Indian tribe acting as a cooperating agency for development of an environmental document.

Meeting participants should come prepared to discuss their issues and/or concerns. Please review the PADs for both projects in preparation for the scoping meetings. Directions on how to obtain a copy of the PADs and SD1 are included in item n of this document.

Meeting Procedures

The meetings will be recorded by a stenographer and will be placed in the public records of the project.

Kimberly D. Bose,
Secretary.

[FR Doc. 2012-29081 Filed 11-30-12; 8:45 am]

BILLING CODE 6717-01-P